DEPARTMENT OF THE TREASURY

Internal Revenue Service

Members of Senior Executive Service Performance Review Boards

AGENCY: Internal Revenue Service (IRS), Treasury.

ACTION: Notice.

SUMMARY: The purpose of this notice is to publish the names of those IRS employees who will serve as members on IRS' Fiscal Year 2009 Senior Executive Service (SES) Performance Review Boards.

DATES: This notice is effective September 1, 2009.

FOR FURTHER INFORMATION CONTACT: Nina C. Gresham, 1111 Constitution Avenue, NW., Room 3516, Washington, DC 20224, (202) 927-7409.

SUPPLEMENTARY INFORMATION: Pursuant to 5 U.S.C. 4314(c)(4), this notice announces the appointment of members to the Internal Revenue Service's SES Performance Review Boards. The names and titles of the executives serving on the boards follow:

Linda E. Stiff, Deputy Commissioner for Services and Enforcement

Mark A. Ernst, Deputy Commissioner for Operations Support

Brady R. Bennett, Director, Compliance (W&I)

Peggy A. Bogadi, Deputy Commissioner for Operations (W&I)

Andrew T. Buckler, Director, Program Integration (MITS)

Lauren Buschor, Deputy Associate CIO, Enterprise Operations (MITS)

Richard E. Byrd, Commissioner, Wage and Investment

Susan W. Carroll, Director, Customer Assistance, Relationships and Education (W&I)

Debra C. Chew, Executive Director, Civil Rights, Diversity and EEO

Robert N. Crawford, Associate CIO, Enterprise Services (MITS)

Michael V. Culpepper, Director, Human Resources (SB/SE)

Jonathan M. Davis, Chief of Staff, Office of the Commissioner

Paul D. DeNard, Deputy Commissioner, Operations (LMSB)

Alison L. Doone, Chief Financial Officer

Vicki S. Duane, Director of Field Operations, North Atlantic (CI)

James P. Falcone, IRS Human Capital Officer

Faris R. Fink, Deputy Commissioner (SB/SE)

Carl T. Froehlich, Associate CIO, End User and Equipment Services (MITS)

Silvana G. Garza, Associate CIO, Applications Development (MITS)

Arthur L. Gonzalez, Chief Information Officer

David A. Grant, Chief, Agency-Wide Shared Services

Joseph H. Grant, Deputy Commissioner (TEGE)

Sarah Hall Ingram, Commissioner, Tax Exempt and Government Entities

Karen L. Hawkins, Director, Office of Professional Responsibility

Charles E. Hunter, Director of Field Operations, Mid States (CI)

Kathy P. Jantzen, Deputy Chief Information Officer for Operations (MITS)

Robin DelRey Jenkins, Director, Business Systems Planning (SB/SE)

Michael D. Julianelle, Director, Employee Plans (TEGE)

Gregory E. Kane, Deputy Chief Financial Officer

Frank M. Keith, Jr., Chief, Communications and Liaison

Lois G. Lerner, Director, Exempt Organizations (TEGE)

Eileen C. Mayer, Chief, Criminal Investigation

Gretchen R. McCoy, Associate CIO, Modernization-Program Management Office (MITS)

James M. McGrane, Deputy CIO for Strategy/Modernization (MITS)

Patricia H. McGuire, Acting Director, Research Analysis and Statistics

Moises C. Medina, Director, Government Entities (TEGE)

Terence V. Milholland, Chief Technology Officer

Steven T. Miller, Commissioner, Large and Mid-Sized Business

Nina E. Olson, National Taxpayer Advocate

Orland M. Parker, Associate CIO, Strategy and Planning (MITS)

Kenneth M. Riccini, Associate CIO, Enterprise Networks (MITS)

Julie Rushin, Business Modernization Executive (W&I)

Diane S. Ryan, Chief, Appeals

Barry B. Shott, Deputy Commissioner, International (LMSB)

Victor S. O. Song, Deputy Chief, Criminal Investigation

David W. Stender, Associate CIO, Cybersecurity (MITS)

Peter J. Stipek, Director, Customer Accounts Services (W&I)

Dora A. Trevino, Director, EEO and Diversity Field Services (AWSS)

Elizabeth Tucker, Deputy Commissioner for Support (W&I)

Christopher Wagner, Commissioner, Small Business/Self Employed

Stephen A. Whitlock, Director, Whistleblower Office

David Williams, Director, Electronic Tax Administration and Refundable Credits (W&I)

Deborah G. Wolf, Director, Office of Privacy, Information Protection and Data Security

This document does not meet the Department of the Treasury's criteria for significant regulations.

Dated: August 12, 2009.
Linda E. Stiff,
Deputy Commissioner for Services and Enforcement, Internal Revenue Service.

[FR Doc. E9-19949 Filed 8-19-09; 8:45 am]

BILLING CODE 4830-01-P